NUCLEAR REGULATORY COMMISSION

[Docket Nos. IA-14-025-EA; ASLBP No. 14-932-02-EA-BD01]

James Chaisson; Establishment Of Atomic Safety And Licensing Board

Pursuant to delegation by the Commission dated December 29, 1972, see 37 FR 28,710 (1972), and the Commission's regulations, see, e.g., 10 CFR 2.104, 2.105, 2.300, 2.309, 2.313, 2.318, and 2.321, notice is hereby given that an Atomic Safety and Licensing Board (Board) is being established to preside over the following proceeding:

James Chaisson

(Enforcement Action)

This Board is being established pursuant to a hearing request submitted by James Chaisson in response to an “Order Prohibiting Involvement in NRC-Licensed Activities” issued on July 11, 2014 by the NRC Office of Enforcement, and published in the Federal Register on July 18, 2014 (79 FR 42,057).

The Board is comprised of the following administrative judges:

Alex S. Karlin, Chairman,

Atomic Safety and Licensing Board Panel,

U.S. Nuclear Regulatory Commission,

Washington, DC 20555-0001.

Michael M. Gibson,

Atomic Safety and Licensing Board Panel,

U.S. Nuclear Regulatory Commission,

Washington, DC 20555-0001.

Dr. Gary S. Arnold,

Atomic Safety and Licensing Board Panel,

U.S. Nuclear Regulatory Commission,

Washington, DC 20555-0001.

All correspondence, documents, and other materials shall be filed in accordance with the NRC E-Filing rule. See 10 CFR 2.302.

Issued at Rockville, Maryland, this 13th day of August 2014.
E. Roy Hawkens,
Chief Administrative Judge, Atomic Safety and Licensing Board Panel.

[FR Doc. 2014-19675 Filed 8-18-14; 8:45 am]

BILLING CODE 7590-01-P